DEPARTMENT OF TRANSPORTATION

Federal Aviation Administration

14 CFR Part 71

[Docket No. FAA-2020-0496; Airspace Docket No. 20-AEA-1]

RIN 2120-AA66

Proposed Amendment of VOR Federal Airways V-2, V-14, V-31, V-33, V-36, V-84, V-164, V-252, and V-510 in the Vicinity of Buffalo, NY

AGENCY: Federal Aviation Administration (FAA), DOT.

ACTION: Notice of proposed rulemaking (NPRM).

SUMMARY: This action proposes to amend VHF Omnidirectional Range (VOR) Federal airways V-2, V-14, V-31, V-33, V-36, V-84, V-164, V-252, and V-510 due to the planned decommissioning of the VOR portion of the Buffalo, NY (BUF), VOR/Distance Measuring Equipment (VOR/DME) navigation aid (NAVAID). The Buffalo VOR provides navigation guidance for portions of the affected VOR Federal airways and is being decommissioned as part of the FAA's VOR Minimum Operational Network (MON) program.

DATES: Comments must be received on or before July 20, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0496; Airspace Docket No. 20-AEA-1 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0496; Airspace Docket No. 20-AEA-1) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0496; Airspace Docket No. 20-AEA-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning to decommission the VOR portion of the Buffalo, NY (BUF), VOR/DME in December 2020. The Buffalo VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Buffalo VOR/DME NAVAID is planned for decommissioning, the DME portion of the NAVAID is being retained to support Next Generation Air Transportation System (NextGen) Performance Based Navigation (PBN) flight procedure requirements. The ATS routes affected by the Buffalo VOR decommissioning are VOR Federal airways V-2, V-14, V-31, V-33, V-36, V-84, V-164, V-252, and V-510.

With the planned decommissioning of the Buffalo VOR, the remaining ground-based NAVAID coverage in the area is insufficient to enable the continuity of the V-2, V-14, V-33, V-36, V-84, V-164, and V-510 airways within the affected area. As a result, the proposed amendments to V-2, V-14, V-36, and V-84 would result in the existing gaps in the airways being expanded. The proposed amendments to V-33 and V-164 would result in the airways ending (for V-33) and starting (for V-164) at the previous or next NAVAID in the airways, respectively, and the proposed amendment to V-510 would result in the airway segment located east of the existing gap in the airway being removed. The remaining ground-based NAVAID coverage in the area is sufficient to retain the continuity of the V-31 and V-252 airways and the proposed amendments to those airways would result in them remaining available for use as charted.

To overcome the proposed removal of the V-2, V-14, V-33, V-36, V-84, V-164, and V-510 airway segments, instrument flight rules (IFR) pilots could use adjacent VOR Federal airways, including V-31, V-119, V-252, and V-270, or could request air traffic control (ATC) radar vectors to fly through or circumnavigate the affected area. IFR pilots equipped with area navigation (RNAV) PBN could also navigate point to point using the existing fixes that will remain in place to support continued operations though the affected area. Visual flight rules (VFR) pilots who elect to navigate via the airways through the affected area could also take advantage of the air traffic services previously listed.

Additionally, to overcome the loss of the Buffalo VOR component radial in defining the last airway point (AIRCO fix) in V-31 and the first airway point (AIRCO fix) in V-252, due to the planned decommissioning of the Buffalo VOR, that radial is being changed while the existing intersecting radials that make up the AIRCO fix in each airway are being retained. The Buffalo VOR radial in the intersection definition of the AIRCO fix in the V-31 and V-252 airway descriptions is being amended to reflect the Jamestown, NY, VOR/DME 024°(T)/032°(M) radial. IFR and VFR pilots who elect to navigate via the airways will be able to continue using V-31 and V-252, as charted, in the affected area.

The Proposal

The FAA is proposing an amendment to Title 14 Code of Federal Regulations (14 CFR) part 71 to modify VOR Federal airways V-2, V-14, V-31, V-33, V-36, V-84, V-164, V-252, and V-510 due to the planned decommissioning of the VOR portion of the Buffalo, NY (BUF), VOR/DME. The proposed VOR Federal airway actions are described below.

V-2: V-2 currently extends between the Seattle, WA, VORTAC and the intersection of the Nodine, MN, VORTAC 122° and Waukon, IA, VOR/DME 053° radials (WEBYE fix); and between the Buffalo, NY, VOR/DME and the Gardner, MA, VOR/DME. The FAA proposes to remove the airway segment between the Buffalo, NY, VOR/DME and the Rochester, NY, VOR/DME. Additional changes to other portions of the airway have been proposed in a separate NPRM. The unaffected portions of the existing airway would remain as charted.

V-14: V-14 currently extends between the Chisum, NM, VORTAC and the Flag City, OH, VORTAC; and between the Buffalo, NY, VOR/DME and the Norwich, CT, VOR/DME. The FAA proposes to remove the airway segment between the Buffalo, NY, VOR/DME and the Geneseo, NY, VOR/DME. The unaffected portions of the existing airway would remain as charted.

V-31: V-31 currently extends between the Patuxent, MD, VORTAC and the Nottingham, MD, VORTAC; and between the Baltimore, MD, VORTAC and the intersection of the Rochester, NY, VOR/DME 279° and Buffalo, NY, VOR/DME 023° radials (AIRCO fix). The FAA proposes to amend the AIRCO fix in the airway description to describe it as the intersection of the existing Rochester VOR/DME 279° radial and the Jamestown, NY, VOR/DME 024°(T)/032°(M) radial. Additionally, the Patuxent, MD, VORTAC airway point references would be corrected from “Patuxent River” to “Patuxent.” The unaffected portions of the existing airway would remain as charted.

V-33: V-33 currently extends between the Harcum, VA, VORTAC and the Nottingham, MD, VORTAC; and between the Baltimore, MD, VORTAC and the Buffalo, NY, VOR/DME. The airspace within R-4007A and R-4007B is excluded. The FAA proposes to remove the airway segment between the Bradford, PA, VOR/DME and the Buffalo, NY, VOR/DME. Additional changes to other portions of the airway have been proposed in separate NPRMs for Docket No. FAA-2017-0932 published in the Federal Register (82 FR 48011, October 16, 2017) and Docket No. FAA-2020-0049 published in the Federal Register (85 FR 6115, February 4, 2020). The unaffected portions of the existing airway would remain as charted.

V-36: V-36 currently extends between the Thunder Bay, ON, Canada, VOR/DME and the intersection of the Wiarton, ON, Canada, VOR/DME 150° and Toronto, ON, Canada, VOR/DME 304° radials; and between the Buffalo, NY, VOR/DME and the intersection of the LaGuardia, NY, VOR/DME 310° and Stillwater, NJ, VOR/DME 043° radials. The airspace within Canada is excluded. The FAA proposes to remove the airway segment between the Buffalo, NY, VOR/DME and the Elmira, NY, VOR/DME. The unaffected portions of the existing airway would remain as charted.

V-84: V-84 currently extends between the Northbrook, IL, VOR/DME and the Pullman, MI, VOR/DME; and between the Buffalo, NY, VOR/DME and the Syracuse, NY, VORTAC. The FAA proposes to remove the airway segment between the Buffalo, NY, VOR/DME and the Geneseo, NY, VOR/DME. The unaffected portions of the existing airway would remain as charted.

V-164: V-164 currently extends between the Buffalo, NY, VOR/DME and the East Texas, PA, VOR/DME. The FAA proposes to remove the airway segment between the Buffalo, NY, VOR/DME and the Wellsville, NY, VORTAC. Additional changes to other portions of the airway have been proposed in a separate NPRM for Docket No. FAA-2020-0049 published in the Federal Register (85 FR 6115, February 4, 2020). The unaffected portions of the existing airway would remain as charted.

V-252: V-252 currently extends between the intersection of the Buffalo, NY, VOR/DME 023° and Geneseo, NY, VOR/DME 305° radials (AIRCO fix) and the Dupont, DE, VORTAC. The FAA proposes to amend the AIRCO fix in the airway description to describe it as the intersection of the Jamestown, NY, VOR/DME 024°(T)/032°(M) radial and the existing Geneseo, NY, VOR/DME 305° radial. The unaffected portions of the existing airway would remain as charted.

V-510: V-510 currently extends between the Dickinson, ND, VORTAC and the Dells, WI, VORTAC; and between the Buffalo, NY, VOR/DME and the Rochester, NY, VOR/DME. The FAA proposes to remove the airway segment between the Buffalo, NY, VOR/DME and the Rochester, NY, VOR/DME. The unaffected portions of the existing airway would remain as charted.

All radials contained in the VOR Federal airway descriptions below that are unchanged are stated in True degrees. Radials that are stated in True (T) and Magnetic (M) degrees are new computations based on available NAVAIDs.

VOR Federal airways are published in paragraph 6010(a) of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; Nodine, MN; to INT Nodine 122° and Waukon, IA, 053° radials. From Rochester, NY; Syracuse, NY; Utica, NY; Albany, NY; INT Albany 084° and Gardner, MA, 284° radials; to Gardner.

* * * * *

V-14 [Amended]

From Chisum, NM; Lubbock, TX; Childress, TX; Hobart, OK; Will Rogers, OK; INT Will Rogers 052° and Tulsa, OK, 246° radials; Tulsa; Neosho, MO; Springfield, MO; Vichy, MO; INT Vichy 067° and St. Louis, MO, 225° radials; St. Louis; Vandalia, IL; Terre Haute, IN; Brickyard, IN; Muncie, IN; to Flag City, OH. From Geneseo, NY; Georgetown, NY; INT Georgetown 093° and Albany, NY, 270° radials; Albany; INT Albany 084° and Gardner, MA, 284° radials; Gardner; to Norwich, CT.

* * * * *

V-31 [Amended]

From Patuxent, MD; INT Patuxent 338° and Nottingham, MD, 128° radials; to Nottingham. From Baltimore, MD; INT Baltimore 004° and Harrisburg, PA, 147° radials; Harrisburg; Selinsgrove, PA; Williamsport, PA; Elmira, NY; INT Elmira 002° and Rochester, NY, 120° radials; Rochester; to INT Rochester 279° and Jamestown, NY, 024°(T)/032°(M) radials.

* * * * *

V-33 [Amended]

From Harcum, VA; INT Harcum 003° and Nottingham, MD, 174° radials; to Nottingham. From Baltimore, MD; INT Baltimore 004° and Harrisburg, PA, 147° radials; Harrisburg; Philipsburg, PA; Keating, PA; to Bradford, PA. The airspace within R-4007A and R-4007B is excluded.

* * * * *

V-36 [Amended]

From Thunder Bay, ON, Canada; Wawa, ON, Canada; Sault Ste Marie, MI; Elliot Lake, ON, Canada; Wiarton, ON, Canada; to INT Wiarton 150° and Toronto, ON, Canada, 304° radials. From Elmira, NY; INT Elmira 110° and LaGuardia, NY, 310° radials; to INT LaGuardia 310° and Stillwater, NJ, 043° radials. The airspace within Canada is excluded.

* * * * *

V-84 [Amended]

From Northbrook, IL; to Pullman, MI. From Geneseo, NY; INT Geneseo 091° and Syracuse, NY, 240° radials; to Syracuse.

* * * * *

V-164 [Amended]

From Wellsville, NY; Stonyfork, PA; Williamsport, PA; INT Williamsport 129° and East Texas, PA, 315° radials; to East Texas.

* * * * *

V-252 [Amended]

From INT Jamestown, NY, 024°(T)/032°(M) and Geneseo, NY, 305° radials; Geneseo; Binghamton, NY; Huguenot, NY; INT Huguenot 196° and Robbinsville, NJ, 351° radials; Robbinsville; to Dupont, DE.

* * * * *

V-510 [Amended]

From Dickinson, ND; INT Dickinson 078° and Bismarck, ND, 290° radials; 28 miles 38 MSL, Bismarck; INT Bismarck 067° and Jamestown, ND, 279° radials; 14 miles, 65 miles 34 MSL, Jamestown; Fargo, ND; INT Fargo 110° and Alexandria, MN, 321° radials; Alexandria; INT Alexandria 110° and Gopher, MN, 321° radials; Gopher; INT Gopher 109° and Nodine, MN, 328° radials; Nodine; to Dells, WI.

* * * * *

Issued in Washington, DC.
Scott M. Rosenbloom,
Acting Manager, Rules and Regulations Group.

[FR Doc. 2020-11861 Filed 6-2-20; 8:45 am]

BILLING CODE 4910-13-P